DEPARTMENT OF THE INTERIOR

Bureau of Land Management

[LLNV952000 L14200000.BJ0000 241A; 11-08807; MO#4500025674; TAS: 14X1109]

Filing of Plats of Survey; Nevada

AGENCY: Bureau of Land Management, Interior.

ACTION: Notice.

SUMMARY: The purpose of this notice is to inform the public and interested state and local government officials of the filing of plats of survey in Nevada.

DATES: Effective Dates: Filing is effective at 10:00 a.m. on the dates indicated below.

FOR FURTHER INFORMATION CONTACT: David D. Morlan, Chief, Branch of Geographic Sciences, Bureau of Land Management (BLM), Nevada State Office, 1340 Financial Blvd., Reno, NV 89502, phone: 775-861-6541. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: 1. The plat of survey of the following described land will be officially filed at the BLM Nevada State Office in Reno on the first business day after 30 days from the publication of this notice:

This plat represents the survey of a portion of the sub-divisional lines of Township 12 North, Range 30 East, Mount Diablo Meridian, Nevada, under Group No. 898, and was accepted on September 1, 2011. This survey was executed to meet certain administrative needs of the Bureau of Indian Affairs and the BLM.

2. The plat of survey of the following described lands will be officially filed at the BLM Nevada State Office in Reno on the first business day after 30 days from the publication of this notice:

This plat represents the survey of a portion of the sub-divisional lines of Township 13 North, Range 31 East, Mount Diablo Meridian, Nevada, under Group No. 899, and was accepted on September 1, 2011. This survey was executed to meet certain administrative needs of the Bureau of Indian Affairs and the BLM.

Subject to valid existing rights, the provisions of existing withdrawals and classifications, the requirement of applicable laws, and other segregations of record, these lands are open to application, petition, and disposal, including application under the mineral leasing laws. All such valid applications received on or before the official filing of the plats of survey described above, shall be considered as simultaneously filed at that time. Applications received thereafter shall be considered in order of filing.

The above-listed surveys are now the basic record for describing the lands for all authorized purposes. These surveys have been placed in the open files at the BLM Nevada State Office and are available to the public as a matter of information. Copies of the surveys and related field notes may be furnished to the public upon payment of the appropriate fees.

Dated: September 16, 2011.
David D. Morlan,
Chief Cadastral Surveyor, Nevada.

[FR Doc. 2011-25362 Filed 9-30-11; 8:45 am]

BILLING CODE 4310-HC-P